DEPARTMENT OF HEALTH AND HUMAN SERVICES

Health Resources and Services Administration

National Advisory Council on the National Health Service Corps; Notice of Meeting

In accordance with section 10(a)(2) of the Federal Advisory Committee Act (Public Law 92-463), notice is hereby given of the following meeting:

Name: National Advisory Council on the National Health Service Corps.

Dates and Times: September 18, 2003, 5 p.m.-7 p.m.; September 19, 2003, 8:30 a.m.-5 p.m.; September 20, 2003, 9 a.m.-5:30 p.m.; and September 21, 2003, 8 a.m.-10:30 a.m.

Place: Embassy Suites Hotel Raleigh/Crabtree, 4700 Creedmoor Road, Raleigh, NC 27612, 919-881-0000.

Status: The meeting will be open to the public.

Agenda: The agenda will focus on the implementation of the National Health Service Corps program within the state of North Carolina. Meeting will further cover the continuing needs of health professional shortage areas within the state. Agenda items and times are subject to change as priorities dictate.

FOR FURTHER INFORMATION CONTACT: Tira Robinson, Division of National Health Service Corps, Bureau of Health Professions, Health Resources and Services Administration, Parklawn Building, Room 8A-55, 5600 Fishers Lane, Rockville, Maryland 20857, telephone (301) 594-4140.

Dated: August 21, 2003.
Jane M. Harrison,
Director, Division of Policy Review and Coordination.

[FR Doc. 03-22073 Filed 8-28-03; 8:45 am]

BILLING CODE 4165-15-P